DEPARTMENT OF THE INTERIOR

Fish and Wildlife Service

Endangered and Threatened Wildlife and Plants; 5-Year Reviews of 24 Southwestern Species

AGENCY: Fish and Wildlife Service, Interior.

ACTION: Notice of reviews.

SUMMARY: The U.S. Fish and Wildlife Service (Service) announces 5-year reviews of 24 southwestern species listed under the Endangered Species Act of 1973 (Act). The purpose of reviews conducted under this section of the Act is to ensure that the classification of species as threatened or endangered on the List of Endangered and Threatened Wildlife and Plants is accurate. The 5-year review is an assessment of the best scientific and commercial data available at the time of the review.

DATES: To allow adequate time to conduct this review, information submitted for our consideration must be received on or before July 23, 2007. However, we will continue to accept new information about any listed species at any time.

ADDRESSES: Information submitted on these species should be sent to the Service at the following addresses. Information received in response to this notice of review will be available for public inspection by appointment, during normal business hours, at the same addresses.

Information regarding the Bee Creek Cave harvestman (reddelli), Bone Cave harvestman (reyesi), Coffin Cave mold beetle, Kretschmarr Cave beetle, Tooth Cave pseudoscorpion, Tooth Cave spider, Devils River minnow, Large-fruited sand verbena, and Texas snowbells should be sent to the Field Supervisor, Attention 5-year Review, U.S. Fish and Wildlife Service, Austin Ecological Services Field Office, 10711 Burnet Road, Suite 200, Austin, Texas 78758. The office phone number is 512-490-0057.

Information regarding Attwater's prairie chicken should be sent to the Refuge Manager, Attention 5-year Review, Attwater Prairie Chicken National Wildlife Refuge, P.O. Box 519, Eagle Lake, Texas 77434. The office phone number is 979-234-3278, and web address is: http://southwest.fws.gov/refuges/texas/attwater/.

Information regarding the Chiricahua leopard frog, New Mexico ridge-nosed rattlesnake, Gila topminnow, Loach minnow, Spikedace, Arizona cliffrose, Nichol Turk's head cactus, San Francisco Peaks groundsel, and Sentry milkvetch should be sent to the Field Supervisor, Attention 5-year Review, U.S. Fish and Wildlife Service, Arizona Ecological Services Field Office, 2321 West Royal Palm Road, Suite 103, Phoenix, AZ 85021. The office phone number is 602-242-0210.

Information regarding Walker's manioc should be sent to the Field Supervisor, Attention 5-year Review, U.S. Fish and Wildlife Service c/o TAMU-CC, Ecological Services, 6300 Ocean Drive, Unit 5837, Corpus Christi, TX 78412. The office phone number is 361-994-9005.

Information regarding the Ouachita rock-pocketbook clam should be sent to the Field Supervisor, Attention 5-year Review, U.S. Fish and Wildlife Service, Oklahoma Ecological Services Field Office, 222 S. Houston, Suite A, Tulsa, OK 74127. The office phone number is 918-581-7458.

Information regarding Knowlton's cactus, Mancos milkvetch, and Pecos sunflower should be sent to the Field Supervisor, Attention 5-year Review, U.S. Fish and Wildlife Service, New Mexico Ecological Services Field Office, 2105 Osuna Road, NE., Albuquerque, NM 87113. The office phone number is 505-346-2525.

FOR FURTHER INFORMATION CONTACT: For species specific information, contact the appropriate office named in Addresses.

SUPPLEMENTARY INFORMATION:

Why is a 5-year review conducted?

Section 4(c)(2)(A) of the Act (16 U.S.C. 1531 et seq.) requires that we conduct a review of listed species at least once every 5 years. We are then, under section 4(c)(2)(B) and the provisions of subsections (a) and (b), to determine, on the basis of such a review, whether or not any species should be removed (delisted) from the List of Endangered and Threatened Wildlife and Plants (50 CFR 17.12), or reclassified from endangered to threatened (downlisted), or from threatened to endangered (uplisted).

The 5-year review is an assessment of the best scientific and commercial data available at the time of the review. Therefore, we are requesting submission of any new information (best scientific and commercial data) on the following 24 species since their original listings as either endangered (Arizona cliffrose, Attwater's prairie chicken, Bee Creek Cave harvestman, Bone Cave harvestman, Coffin Cave mold beetle, Gila topminnow, Knowlton's cactus, Kretschmarr Cave mold beetle, Large-fruited sand verbena, Mancos milkvetch, Nichol Turk's head cactus , Ouachita rock pocketbook, Sentry milkvetch, Texas snowbells, Tooth Cave pseudoscorpion, Tooth Cave spider, and Walker's manioc) or threatened (Chiricahua leopard frog, Devils River minnow, Loach minnow, New Mexico ridge-nosed rattlesnake, Pecos sunflower, San Francisco Peaks groundsel, and Spikedace). If the present classification of any of these species is not consistent with the best scientific and commercial information available, the Service will recommend whether or not a change is warranted in the Federal classification of that species. Any change in Federal classification would require a separate rule-making process.

Our regulations at 50 CFR 424.21 require that we publish a notice in the Federal Register announcing those species currently under active review. This notice announces our active review of the 24 species listed in Table 1.

What information is considered in the review?

A 5-year review considers all new information available at the time of the review. These reviews will consider the best scientific and commercial data that has become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

How are these species currently listed?

The List of Endangered and Threatened Wildlife and Plants (List) is found in 50 CFR 17.11 (wildlife) and 17.12 (plants). Amendments to the List through final rules are published in the Federal Register. The List is also available on our internet site at http://www.fws.gov/endangered/wildlife.html. In Table 1 below, we provide a summary of the listing information for the species under active review.

Table 1.—Summary of the Listing Information
Common name | Scientific name | Status | Where listed | Final listing rule
Arizona cliffrose | Purshia subintegra | E | AZ | 49 FR 22326
Attwater's prairie chicken | Tympanuchus cupido attwateri | E | TX | 32 FR 4001
Bee Creek Cave harvestman | Texella reddelli | E | TX | 53 FR 36029
Bone Cave harvestman | Texella reyesi | E | TX | 53 FR 36029
Chiricahua leopard frog | Rana chiricahuensis | T | AZ, NM | 67 FR 40789
Coffin Cave mold beetle | Bastrisodes texanus | E | TX | 53 FR 36029
Devils River minnow | Dionda diaboli | T | TX | 64 FR 56596
Gila topminnow | Poeciliopsis occidentalis | E | AZ, NM | 32 FR 4001
Knowlton's cactus | Pediocactus knowltonii | E | CO, NM | 44 FR 62244
Kretschmarr Cave mold beetle | Texamaurops reddelli | E | TX | 53 FR 36029
Large-fruited sand verbena | Abronia macrocarpa | E | TX | 53 FR 37975
Loach minnow | Tiaroga cobitis | T | AZ, NM | 51 FR 39468
Mancos milkvetch | Astragalus humillimus | E | CO, NM | 50 FR 26568
New Mexico ridge-nosed rattlesnake | Crotalus willardi obscurus | T | AZ, NM | 43 FR 34476
Nichol Turk's head cactus | Echinocactus horizonthalonius var. nicholii | E | AZ | 44 FR 61927
Ouachita rock-pocketbook clam | Arkansia wheeleri | E | AR, OK | 56 FR 54950
Pecos sunflower | Helianthus paradoxus | T | NM, TX | 64 FR 56581
San Francisco Peaks groundsel | Senecio franciscanus | T | AZ | 48 FR 52743
Sentry milkvetch | Astralagus cremnophylax var. cremnophylax | E | AZ | 55 FR 50184
Spikedace | Meda fulgida | T | AZ, NM | 51 FR 23769
Texas snowbells | Styrax texanus | E | TX | 49 FR 40036
Tooth Cave pseudoscorpion | Tartarocreagris texana | E | TX | 53 FR 36029
Tooth Cave spider | Leptoneta myopica | E | TX | 53 FR 36029
Walker's manioc | Manihot walkerae | E | TX | 56 FR 49850

Definitions Related to This Notice

The following definitions are provided to assist those persons who contemplate submitting information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What could happen as a result of this review?

If we find that there is new information concerning any of the 24 species listed in Table 1 indicating a change in classification may be warranted, we may propose a new rule that could do one of the following: (a) Reclassify the species from endangered to threatened (downlist); (b) reclassify the species from threatened to endangered (uplist); or (c) remove the species from the List. If we determine that a change in classification is not warranted, then these species will remain on the List under their current status.

Public Solicitation of New Information

We request any new information concerning the status of the 24 species listed in Table 1. See “What information is considered in the review?” heading for specific criteria. Information submitted should be supported by documentation such as maps, bibliographic references, methods used to gather and analyze the data, and/or copies of any pertinent publications, reports, or letters by knowledgeable sources. Before including your address, phone number, e-mail address, or other personal identifying information in your comments, you should be aware that your entire comment—including your personal identifying information—may be made publicly available at any time. While you can ask us in your comment to withhold your personal identifying information from public review, we cannot guarantee that we will be able to do so.

Authority

This document is published under the authority of the Endangered Species Act (16 U.S.C. 1531 et seq.).

Dated: March 14, 2007.
Benjamin N. Tuggle,
Regional Director, Southwest Region, Fish and Wildlife Service.

[FR Doc. E7-7636 Filed 4-20-07; 8:45 am]

BILLING CODE 4310-55-P